DEPARTMENT OF TRANSPORTATION

Federal Aviation Administration

Notice of Intent To Rule on Request To Release Airport Property at Perry-Houston County Airport, Perry, GA

AGENCY: Federal Aviation Administration (FAA), DOT.

ACTION: Notice and request for comment.

SUMMARY: The FAA proposes to rule and invites public comment on the release of land at Perry-Houston County Airport, Perry, GA.

DATES: Comments must be received on or before August 30, 2018.

ADDRESSES: Comments on this application may be mailed or delivered to the FAA at the following address: Aimee McCormick, Federal Aviation Administration, Atlanta Airports District Office, 1701 Columbia Ave., Ste. 220, College Park, GA 30337.

In addition, one copy of any comments submitted to the FAA must be mailed or delivered to: William R. Jerles, Jr., Chairman, Perry-Houston County Airport Authority, P.O. Box 1572, Perry, GA 31069.

FOR FURTHER INFORMATION CONTACT: Aimee McCormick, Federal Aviation Administration, Atlanta Airports District Office, 1701 Columbia Ave., Ste. 220, College Park, GA 30337, aimee.mccormick@faa.gov. The request to release property may be reviewed, by appointment, in person at this same location.

SUPPLEMENTARY INFORMATION: The FAA invites public comment on the request to release 38.26 acres of airport property at Perry-Houston County Airport (PXE) under the provisions of 49 U.S.C. 47107(h)(2).

On March 16, 2018, the Georgia Department of Transportation Aviation Program Manager, on behalf of the Perry-Houston County Airport Authority, requested the FAA release 38.26 acres of airport property for an equal 38.26 acres of adjacent land at same fair market value (FMV) cost. The land to be released by the airport authority will be used as farmland while the land to be acquired by the airport authority will be used for future airport development as needed. FAA has determined that the proposed property release at Perry-Houston County Airport (PXE), as submitted by Perry-Houston County Airport Authority, meets the procedural requirements of the Federal Aviation Administration and release of the property does not and will not impact future aviation needs at the airport. The FAA may approve the request, in whole or in part, no sooner than thirty days after the publication of this notice.

The following is a brief overview of the request:

Perry-Houston County Airport (PXE) is proposing the release of 38.26 acres of airport property to be used for farmland and equal to the acquisition of contiguous, adjacent 38.26 acres of land for future aviation development as needed. The release of land is necessary to comply with Federal Aviation Administration Grant Assurances that do not allow federally acquired airport property to be used for non-aviation purposes. Release of the airport owned land will result in the land at Perry-Houston County Airport (PXE) being changed from aeronautical to non-aeronautical use and release the lands from the conditions of the Airport Improvement Program Grant Agreement Grant Assurances. In accordance with 49 U.S.C. § 47107(c)(2)(B)(i) and (iii), the airport will transfer the equal fair market value properties between owners the parties.

Any person may inspect, by appointment, the request in person at the FAA office listed above under FOR FURTHER INFORMATION CONTACT. In addition, any person may, upon appointment and request, inspect the application, notice and other documents determined by the FAA to be related to the application in person at Perry-Houston County Airport.

Issued in Atlanta, GA, on July 24, 2018.
Larry F. Clark,
Manager, Atlanta Airports District Office.

[FR Doc. 2018-16252 Filed 7-30-18; 8:45 am]

BILLING CODE 4910-13-P